DEPARTMENT OF HEALTH AND HUMAN SERVICES

Health Resources and Services Administration

Notice of Availability of Draft Policy Documents for Comment

AGENCY: Health Resources and Services Administration (HRSA), HHS.

ACTION: This is a Notice of Availability and request for comments on draft Agency Guidance (“Policy Information Notices” (PINs)) to describe the policy and processes pertaining to requests from federally-funded health centers to change the scope of their Federal project. The PINs, “Defining Scope of Project and Policy for Requesting Changes,” “Change in Scope Requests: Policy for Adding a New Target Population,” and “Specialty Services and Health Centers’ Scope of Project,” are available on the Internet at http://bphc.hrsa.gov.

DATES: Comments must be received by September 28, 2007.

ADDRESSES: Please send your comments to the following e-mail address: DPDgeneral@hrsa.gov.

SUMMARY: HRSA believes that community input is valuable to the development of policies and policy documents related to the implementation of HRSA programs, including the Health Center Program. Therefore, we are requesting comments on the PINs referenced above. After review and consideration of all comments received, the PINs may be amended to incorporate recommendations from the public. Once the PINs are finalized, they will be made available on HRSA's Web site, along with the Agency's “Response to Public Comments.” The “Response to Public Comments” will summarize the major comments received and describe the Agency's response, including any corresponding changes made to the PINs. Where comments do not result in a revision to the PINs, explanations will be provided.

Background: HRSA administers the Health Center Program, which supports more than 3,800 health care delivery sites, including community health centers, migrant health centers, health care for the homeless centers, and public housing primary care centers. Health centers serve clients that are primarily low-income and minorities, and deliver preventive and primary care services to patients regardless of their ability to pay. Charges for health care services are set according to income. The purpose of the recently published draft PINs is to describe the policy and processes pertaining to requests from federally-funded health centers to change the scope of their Federal project, including requests to include new specialty services and/or a new target population within the scope of the Federal project.

FOR FURTHER INFORMATION CONTACT: For questions regarding this notice, please contact the Office of Policy and Program Development, Bureau of Primary Health Care, HRSA, at 301-594-4300.

Dated: August 21, 2007.
Elizabeth M. Duke,
Administrator.

[FR Doc. E7-17092 Filed 8-28-07; 8:45 am]

BILLING CODE 4165-15-P